DEPARTMENT OF HEALTH AND HUMAN SERVICES

Substance Abuse and Mental Health Services Administration

Advisory Committee for Women's Services (ACWS); Notice of Meeting

Pursuant to Public Law 92-463, notice is hereby given of a meeting of the Substance Abuse and Mental Health Services Administration's (SAMHSA) Advisory Committee for Women's Services (ACWS) on February 24, 2016.

The meeting will include discussions on The U.S. Preventive Services Task Force (USPSTF) Fifth Annual Report to Congress on High-Priority Evidence Gaps for Clinical Preventive Services for Women, including Intimate Partner Violence, Illicit Drug Use, Major Depressive Disorder, and Suicide Risk; the Federal Legislative process and women's behavioral health; women and sexual abuse and coercion; certified community health clinics; and a conversation with the SAMHSA Acting Administrator.

The meeting is open to the public and will be held at SAMHSA, 5600 Fishers Lane, Rockville, MD 20857, in Conference Room 5E49. Attendance by the public will be limited to space available. Interested persons may present data, information, or views, orally or in writing, on issues pending before the committee. Written submissions should be forwarded to the contact person (below) on or before February 12, 2016. Oral presentations from the public will be scheduled at the conclusion of the meeting. Individuals interested in making oral presentations are encouraged to notify the contact person on or before February 12, 2016. Five minutes will be allotted for each presentation.

The meeting may be accessed via telephone. To attend on site, obtain the call-in number and access code, submit written or brief oral comments, or request special accommodations for persons with disabilities, please register on-line at http://nac.samhsa.gov/Registration/meetingsRegistration.aspx, or communicate with SAMHSA's Designated Federal Officer, Ms. Nadine Benton (see contact information below).

Substantive meeting information and a roster of Committee members may be obtained either by accessing the SAMHSA Committees' Web site http://www.samhsa.gov/about-us/advisory-councils/advisory-committee-women%E2%80%99s-services-awcs, or by contacting Ms. Benton.

Committee Name: Substance Abuse and Mental Health Services Administration Advisory Committee for Women's Services (ACWS).

Date/Time/Type: Wednesday, February 24, 2016, from: 900 a.m. to 4:45p.m. EDT Open.

Place: SAMHSA, 5600 Fishers Lane, Conference Room 5E49, Rockville, Maryland 20857.

Contact: Nadine Benton, Designated Federal Official, SAMHSA's Advisory Committee for Women's Services, 5600 Fishers Lane, Rockville, Maryland 20857, Telephone: (240) 276-0127, Fax: (240) 276-2252, Email: nadine.benton@samhsa.hhs.gov.

Summer King,
Statistician, SAMHSA.

[FR Doc. 2016-02774 Filed 2-10-16; 8:45 am]

BILLING CODE 4162-20-P